DEPARTMENT OF HEALTH AND HUMAN SERVICES

Indian Health Service

Funding Opportunity for Indians Into Nursing (NU)

Announcement Type: New.

Funding Announcement Number: HHS-2024-IHS-NU-0001.

Assistance Listing (Catalog of Federal Domestic Assistance or CFDA) Number: 93.970.

Key Dates

Application Deadline Date: May 14, 2024.

Earliest Anticipated Start Date: July 1, 2024.

I. Step 1: Review the Opportunity

Funding Details

Type: Cooperative Agreement.

Competition type: New and Competing continuation applications.

Expected total program funding: $1,889,986.

Expected number of awards: 5.

Funding range per award for the first budget year: $300,000 to $400,000.

The period of performance is for 5 years.

Continuation funding depends on the availability of funds and agency budget priorities.

Eligibility—Who can apply?

Eligible Applicants

Only these types or organizations may apply:

1. Accredited public or private schools of nursing.

2. Accredited tribally controlled community colleges.

3. Accredited tribally controlled post-secondary vocational institutions.

4. Nurse midwife programs and nurse practitioner programs that are provided by any public or private institution.

We will notify any applicants we determine to be ineligible.

Eligibility Exceptions

1. Individuals including sole proprietorships and foreign organizations are not eligible.

2. We do not fund concurrent projects under this program. If you get an award under this announcement, we cannot later fund you under other Indians into Psychology (InPsy) programs while this award is active.

Other Eligibility Criteria

1. All schools of nursing must be fully accredited without restrictions at the time of application by a national nurse educational accrediting body or state approval body recognized by the Secretary of the U.S. Department of Education for the purposes of nursing education.

2. The schools offering a degree in nurse midwifery must provide verification of accreditation by the American College of Nurse Midwives.

3. Tribally controlled community colleges nursing programs and post-secondary vocational institutions must be fully accredited by an appropriate recognized nursing accrediting body without restrictions.

Cost Sharing or Matching

This program has no cost-sharing requirement.

If you choose to include cost-sharing funds, we will not consider it during our review. However, we will hold you accountable for any funds you add, including through reporting.

Program Description

Background

The Indian Health Service (IHS) is responsible for providing Federal health services to the American Indian and Alaska Native (AI/AN) people. Our mission is to raise the physical, mental, social, and spiritual health of AI/ANs to the highest level. The Indian Healthcare Improvement Act (https://www.ihs.gov/IHCIA/) authorizes the IHS to administer programs designed to attract and recruit qualified Indians into health professions to ensure the availability of health professionals to serve the AI/AN population.

Purpose

Our purpose is to recruit, retain, graduate, and increase the number of registered nurses, certified nurse midwives, and nurse practitioners who deliver health care services to AI/AN communities. Our primary objectives are to:

1. Recruit and train Indian people in nursing fields.

2. Increase the skills of, and provide continuing education to nurses and advanced practice nurses.

Required Activities

1. Recruit and train AI/AN people to become baccalaureate-prepared nurses and advanced practice nurses; nurse midwives; and nurse practitioners.

2. Provide a scholarship program that encourages registered nurses and advanced practice nurses to provide or continue to provide health care services to AI/AN communities.

3. Provide scholarships to AI/AN people to cover tuition, books, fees, room and board, stipend for living expenses, or other expenses related to baccalaureate-level nursing or advanced practice nursing programs.

4. Develop and maintain nursing education programs and recruit people to become registered nurses and advanced practice nurses who will provide services to AI/AN people.

5. See the project narrative and merit review sections for more detail on activities.

Cooperative Agreement Terms

Cooperative agreements use the same policies as grants. The difference is that IHS will have substantial involvement in the project during the entire period of performance. Below is a detailed description of our level of involvement.

An IHS program official will:

• Work with your project director to ensure timely receipt of progress and audit reports and to ensure program compliance.

• Provide you with programmatic technical assistance, as needed.

• Coordinate and conduct site visits as needed.

• Conduct semi-annual conference calls with recipients and students.

• Work with the Division of Grants Management (DGM) to ensure that you meet all goals and objectives of your program.

• Provide programs and scholarship recipients with information on IHS scholarship service obligation requirements.

• Initiate default proceedings within 90 days after receiving your notification that a student:

1. has been dismissed from the program;

2. has withdrawn from school;

3. failed to graduate with nursing degree;

4. failed to begin a required period of supervised clinical hours required for state licensure;

5. failed to get licensed and begin obligated service time within 90 days of graduation; or

6. failed to complete service.

Funding Policies and Limitations

Limitations

• We allow pre-award costs up to 90 days before the start date of the award if the costs are otherwise allowable if awarded. You incur pre-award costs at your organization's risk.

Policies

• Total award funds include both direct and indirect costs.

• Each applicant can receive only one award under this announcement.

Indirect Costs

Indirect costs are those incurred for a common or joint purpose across more than one project and that cannot be easily separated by project. Learn more at 45 CFR 75.414 (https://www.ecfr.gov/current/title-45/subtitle-A/subchapter-A/part-75/subpart-E/subject-group-ECFR1eff2936a9211f7/section-75.414), Indirect Costs. Indirect costs for training awards cannot exceed 8 percent of modified total direct costs. To understand what is included in modified total direct costs, see 45 CFR 75.2 (https://www.ecfr.gov/current/title-45/subtitle-A/subchapter-A/part-75#p-75.2(Modified%20Total%20Direct%20Cost)).

Statutory Authority

The Snyder Act, 25 U.S.C. 13; the Transfer Act, 42 U.S.C. 2001(a); and section 112 of the Indian Health Care Improvement Act, Public Law 94-437, as amended (IHCIA), codified at 25 U.S.C. 1616e (https://www.govinfo.gov/content/pkg/USCODE-2022-title25/html/USCODE-2022-title25-chap18-subchapI-sec1616e.htm).

II. Step 2: Get Ready To Apply

Get Registered

System for Award Management

You must have an active account with SAM.gov. This includes having a Unique Entity Identifier. SAM.gov registration can take several weeks. Begin that process today. To register, go to SAM.gov Entity Registration (https://sam.gov/content/entity-registration) and click Get Started. From the same page, you can also click on the Entity Registration Checklist for the information you will need to register.

Grants.gov

You must also have an active account with Grants.gov (https://grants.gov/home). You can see step-by step instructions at the Grants.gov Quick Start Guide for Applicants (https://www.grants.gov/quick-start-guide/applicants).

Find the Application Package

The application package has all the forms you need to apply. You can find it online. Go to Grants Search at Grants.gov (https://grants.gov/home) and search for opportunity number HHS-2024-IHS-NU-0001.

III. Step 3: Write Your Application

Application Contents and Format

Applications include five main components. This section includes guidance on each. Make sure you include each of these:

Component | Submission form
Project Abstract | Use the Project Abstract Summary form.
Project Narrative | Use the Project Narrative Attachment form.
Budget Narrative | Use the Budget Narrative Attachment form.
Attachments | Insert each in a single Other Attachments form.
Required Forms | Upload using each required form.

Project Abstract

Page limit: 1 page.

Provide a self-contained summary of your proposed project, including the purpose and expected outcomes. Do not include any proprietary or confidential information. We use this information when we receive public information requests about funded projects.

Required Format for Project and Budget Narrative:

Font size: 12-point font. Footnotes, tables, and text in graphics may be 10-point.

Font color: black.

Spacing: Single-spaced.

Margins: 1-inch.

Size: 8.5 by 11 inches.

Include consecutive page numbers.

Formats: While the forms for project and budget narratives are PDF, you may upload Word, Excel, or PDF files to those forms.

Project Narrative

Page limit: 25 pages.

Filename: Project narrative.

To create your project narrative:

• Follow the headings in the table below in order.

• Use the merit review criteria to determine what you need to include.

• Describe your proposed project and activities for the full period of performance.

• Stay within the page limit, or we will remove pages beyond that. We recommend some page limits for subsections below, but they are guidance only.

Heading | Recommended page length
Introduction and need for assistance | 5
Project objectives, work plan, and approach | 5
Program evaluation | 5
Organization capabilities, key personnel, and qualifications | 10

Budget Narrative

Page limit: 5.

Filename: Budget narrative.

The budget narrative supports the information you provide in Standard Form 424-A. See standard forms.

For more guidance on what to include in your budget narrative, see merit review criteria.

It includes added detail and justifies the costs you ask for. As you develop your budget, consider:

• If the costs are reasonable and consistent with your project's purpose and activities.

• The restrictions on spending funds. See funding limitations.

To create your budget narrative:

• Review the requirements in the merit review section for more detail.

• Show each line item in your SF-424A, organized by budget category.

• Provide the information for the entire period of performance, broken down by year.

• For each line item, describe:

1. How the costs support achieving the project's proposed objectives.

2. How you calculated or arrived at the cost.

Take care to explain each item in the “other” category and why you need it. Do not use the budget narrative to expand your project narrative.

If you like, you can also include a spreadsheet that provides more detail than in the SF-424A. If you do, we will not count it against the page limit.

Attachments

You will upload attachments in Grants.gov using a single Other Attachments Form. Unless stated below, these attachments do not have page limits.

Proof of Accreditation

Submit proof of program accreditation from an accreditation agency recognized by the U.S. Department of Education, such as Commission of Collegiate Nursing Education (CCNE) and Accreditation Commission for Education in Nursing (ACEN).

Work Plan Chart

Attach a one-page work plan chart or timetable that summarizes the work plan in your project description, outlining your activities and outcomes. See merit review criteria for detailed instructions.

Proof of Nonprofit Status

If your organization is a nonprofit, you need to attach proof. We will accept any of the following:

• A copy of a current tax exemption certificate from the IRS.

• A letter from your state's tax department, attorney general, or another state official saying that your group is a nonprofit and that none of your net earnings go to private shareholders or others.

• A certified copy of your certificate of incorporation. This document must show that your group is a nonprofit.

• Any of the above for a parent organization. Also include a statement signed by an official of the parent group that your organization is a nonprofit affiliate.

Resumes and Position Descriptions

For key personnel, attach biographical sketches for filled positions. If a position is not filled, attach a short description of the position and qualifications. See additional instructions in merit review criteria.

Contractor and Consultant Resumes

For contractors or consultants, attach resumes or qualifications and their scope of work.

Audit Documentation

You must provide documentation of required audits. You can submit:

• Email confirmation from the Federal Audit Clearinghouse (FAC) showing that you submitted the audits.

• Face sheets from audit reports. You can find these on the FAC website (https://www.fac.gov/).

See audit requirements at 45 CFR part 75 subpart F (https://www.ecfr.gov/current/title-45/subtitle-A/subchapter-A/part-75/subpart-F).

Standard Forms

You will need to complete some standard forms. Upload the standard forms listed below at Grants.gov. You can find them in the NOFO application package or review them and their instructions at Grants.gov Forms.

Forms | Submission requirement
Application for Federal Assistance (SF-424) | With application.
Budget Information for Non-Construction Programs (SF-424A) | With application.
Grants.gov Lobbying Form | With application.
Disclosure of Lobbying Activities (SF-LLL) | If applicable, with the application.

IV. Step 4: Learn About Review and Award

Application Review

Initial Review

We review each application to make sure it meets basic requirements. We will not consider an application that:

• Is from an organization that does not meet all eligibility criteria.

• Is incomplete.

• Requests funding above the award ceiling shown in the funding range.

• Requests a period of performance longer than this NOFO allows.

• Is submitted after the deadline.

Also, we will not review any pages over the page limit.

Merit Review

The Review Committee reviews all applications that pass the initial review. The members use the criteria below.

We will send your authorized official an Executive Summary Statement within 30 days after we complete reviews. This statement will outline the strengths and weaknesses of your application.

Criteria

The panel will assess the quality of your responses and soundness of your approaches to the following project narrative sections.

Criterion | Total number of points = 100
1. Introduction and need for assistance | 10
2. Project objectives, work plan, and approach | 40
3. Program evaluation | 30
4. Organizational capabilities, key personnel, and qualifications | 15
5. Support Requested | 5

1. Introduction and Need for Assistance

Maximum Points: 10

a. Present the comprehensive framework of your proposed program.

b. Include the purpose and background of your program.

c. Justify the overall need for your proposed program. Include the unmet AI/AN nursing workforce needs in AI/AN communities.

d. Explain how the proposed program will serve the IHS and Tribal health care programs as well as support to IHS scholarship recipients.

e. Describe the target population to receive IHS scholarships. We give funding preference to schools of nursing that recruit, retain, and graduate AI/AN veterans and veterans who have medical military experience.

f. Describe your overall approach to increase the number of registered nurses, nurse midwives, and nurse practitioners who deliver health care services to AI/AN. Include how you will increase the number of AI/AN nursing students recruited, retained, and graduated.

g. Describe the social determinants and health disparities that impact AI/AN communities. Discuss how these social determinants have historically affected access to AI/AN health care and have impacted AI/AN students' access to education specifically nursing education.

h. Describe relevance of the program relating the objectives to the purposes of this NOFO.

i. For current recipients, describe the differences between the current and proposed activities.

2. Project Objectives, Work Plan, and Approach

Maximum Points: 40

a. Project objectives

1. Clearly state specific, time-framed, measurable objectives for the goals related to the proposed program.

b. Work plan

1. In your attachments, include a work plan chart, with timelines, that describes fully and clearly how you will complete your proposed activities.

c. Approach

1. Recruiting students—You must describe:

a. Your strategy to attract pre-nursing students.

b. How your program will recruit AI/AN students who are veterans, including those with experience as emergency medical technicians, hospital corpsmen, paramedics, military medics, and licensed vocational or practical nurses.

2. Training and supporting student success. You must describe how you will:

a. Award IHS scholarships to nursing students.

b. Assist IHS program officials in their roles to support student job placement and to track each IHS scholarship recipient's service obligation.

c. Educate and train students in opioid addiction prevention, treatment, and recovery. Addressing the opioid crisis is an HHS priority.

3. Oversight and collaboration. You must describe:

a. Provide support services to psychology students to facilitate their success in the clinical psychology program as well as track their progress.

a. Collect students' BIA-4437 forms to verify whether students receiving tuition support in their program are members of eligible, federally recognized Tribes.

b. Assist the clinical psychologist with job placement at eligible Indian health sites and track their payback status to ensure they fulfill their service obligation.

c. Provide your students with clinical rotation in AI/AN health programs.

d. Provide stipends to undergraduate and graduate students to pursue a career in psychology.

e. Use existing university tutoring, counseling, and student support services, to the maximum extent feasible.

f. Provide career counseling, academic advice, plans to correct academic deficiencies, and other activities to assist student retention.

g. Educate and train students in opioid addiction prevention, treatment, and recovery. Addressing the opioid crisis is a Health and Human Services (HHS) priority.

h. Increase the skills of and provide continuing education to clinical psychologists at the graduate and undergraduate level who deliver health services to the AI/AN population.

i. Provide mechanisms and resources to increase psychology student enrollment, retention, and graduation.

4. Oversight and collaboration—You must describe how you will:

a. The challenges that you are likely to encounter or have been a challenge in designing and implementing the activities in your work plan, and the approaches that you will use to resolve them.

b. Your plan to sustain the project after the period of performance ends. Include the expected barriers to achieving self-sufficiency.

c. How you will establish or collaborate with existing IHS and Tribal programs and colleges to establish:

1. an agreement for clinical rotations;

2. a faculty exchange program to enhance cultural competency and faculty strength;

3. formal bridge programs agreements between Tribal colleges and universities to provide a program that increases the skills of, and provide continuing education to nurses, nurse practitioners, and nurse midwives.

3. Program Evaluation

Maximum Points: 30

a. Describe your evaluation plan. Include strategies for assessing the progress and outcomes of your project.

b. Link your evaluation plan to the objectives and purpose of this NOFO. Include how you will evaluate your successes and failures as well as identify and implement continuing improvements.

c. Describe the evaluation measures you will use to demonstrate how the program is meeting identified goals and objectives.

d. Describe you will collect, track, and report performance measures on a semi-annual basis and for periodic audit reports.

e. Explain how you will collect and manage student scholarship data.

f. Describe any potential obstacles for implementing the program performance evaluation, and how you will address those obstacles.

4. Organizational Capabilities, Key Personnel, and Qualifications

Maximum Points: 15

a. Provide information on your organization, philosophy, and practice methods. Describe how they will contribute to your ability to conduct program requirements and meet this program's purpose, objectives, and expectations.

b. List the key personnel who will work with the program. In your attachments, submit position descriptions and resumes of program director and key staff with duties and experience.

c. Include nursing accreditation documentation. All schools of nursing that are associated with the project and have conferring degrees must be accredited.

d. Describe your organization's significant program activities and accomplishments over the past 5 years associated with the goals of this announcement. Describe major activities over the last 24 months.

e. Identify and summarize major project activities recently done during the project period. Include recruitment, retention, and support activities to student, graduate, and evaluation demonstrating performance measures.

f. Identify your experience with other similar projects, including the results of those projects. Include your prior experience with nurse recruitment programs.

5. Budget and Budget Justification

Maximum Points: 5

a. Clearly define the budget in your Budget Information for Non-Construction Programs (SF-424A).

b. In the Budget Narrative Form, provide a justification and detailed breakdown of the funding by category for the first year of the project. Information on the project director and project staff should include salaries and percentage of time assigned to the grant. List equipment assigned to the grant. List equipment purchases necessary to conduct the project. See budget narrative. Be sure to include:

1. Personnel costs: You must identify a single program director. The program director must be a licensed registered nurse.

2. Key support personnel: Provide names, title, position description, salary, and fringe benefits. Administrative cost is limited to 8 percent of the award.

3. Consultants: Provide names, affiliations, and qualifications of each consultant, including expected rate of compensation, travel, per diem, and other related costs.

4. Travel: Name conferences or other recruitment events, airline tickets, lodging, per diem, booth, public transportation, or other related costs.

5. Equipment: Must be related to the objectives of the project, retained by recipient, used in accordance with the terms of the cooperative agreement award, and must comply with procurement requirements for Federal grant and cooperative agreements.

6. Scholarships: Must cover tuition, fees, books, stipend, and other related educational expenses. The proposed project must use IHS scholarship funds in a manner that will meet the needs of eligible AI/AN students. The budget narrative must indicate the number of students to receive scholarship for each year of the cooperative agreement and the amount of each scholarship per student.

Risk Review

Before making an award, we review the risk that you will not prudently manage Federal funds. We need to make sure you've handled any past Federal awards well and demonstrated sound business practices. We use SAM.gov Responsibility/Qualification (https://sam.gov/content/entity-information) to check this history for all awards likely to be over $250K. You can comment on your organization's information in SAM.gov. We will consider your comments before making a decision about your level of risk.

If we find a significant risk, we may choose not to fund your application or to place specific conditions on the award.

For more details, see 45 CFR 75.205 (https://www.ecfr.gov/current/title-45/subtitle-A/subchapter-A/part-75/subpart-C/section-75.205).

Selection Process

When making funding decisions, we consider:

• Applicant program characteristics. We give preference to programs that provide a preference to AI/AN students, train nurse midwives or nurse practitioners, and are interdisciplinary, including with medicine, pharmacy, dental, and behavioral health students.

• Geographic IHS area. If more than one university and college application is received from an IHS area, only one award will be made to that particular IHS area providing a DNP, MSN, or BSN program.

• Private, public, and Tribal status. At least two awards to public or private college or university, school of nursing which provides DNP, MSN, BSN, ADN (registered nurse, nurse practitioner, nurse midwife) degrees. At least three awards to a tribally controlled community college, school of nursing which provides BSN and ADN (registered nurse) degrees.

• Merit review results. These are key in making decisions but are not the only factor.

• Statutory requirement. Pursuant to 25 U.S.C. 1616e(e), one grant will be provided to the University of North Dakota.

• Coverage. The larger portfolio of agency-funded projects, including the diversity of project types and geographic distribution.

• Applicant past performance. We may choose not to fund applicants with management or financial problems.

We may:

• Fund applications in whole or in part.

• Fund applications at a lower amount than requested.

• Decide not to allow a prime recipient to subaward if they may not be able to monitor and manage subrecipients properly.

• Choose to fund no applications under this NOFO.

Award Notices

After we review and select applications for award, we will let you know the outcome.

Unsuccessful Applications

We will email you or write you a letter if your application is disqualified or unsuccessful.

Approved but Unfunded Applications

It is possible that we could approve your application, but do not have enough funds to reach it. If so, we will hold your application for one year. If funding becomes available during the year, we may reconsider funding.

Approved Applications

If you are successful, we will create a Notice of Award (NoA). You will need a GrantSolutions user account (https://www.grantsolutions.gov/home/getting-started-request-a-user-account/) to retrieve your NoA.

The NoA is the only official award document. The NoA tells you about the amount of the award, important dates, and the terms and conditions you need to follow. Until you receive the NoA, you do not have permission to start work.

V. Step 5: Submit Your Application

Application Submission and Deadlines

See find the application package to make sure you have everything you need.

Make sure you are current with SAM.gov and UEI requirements. See get registered (https://sam.gov/content/entity-registration). You will have to maintain your registration throughout the life of any award.

Application Deadline

You must submit your application by May 14, 2024, at 11:59 p.m. ET.

Grants.gov creates a date and time record when it receives the application. If you submit the same application more than once, we will accept the last on-time submission.

The grants management officer may extend an application due date based on emergency situations such as documented natural disasters or a verifiable widespread disruption of electric or mail service.

Application Submission

You must submit your application through Grants.gov. See get registered (https://sam.gov/content/entity-registration).

For instructions on how to submit in Grants.gov, see the Quick Start Guide for Applicants (https://www.grants.gov/quick-start-guide/applicants). Make sure that your application passes the Grants.gov validation checks or we may not get it. Do not encrypt, zip, or password protect any files. The link above will also help you learn how to create PDFs.

See Contacts & Support if you need help.

Exemptions

If you cannot submit through Grants.gov, you must request a waiver before the application due date. Send your waiver request to DGM@ihs.gov. Include clear justification for the need to deviate from the required application submission process. Failure to register in SAM.gov or Grants.gov in a timely way is not cause for a waiver. We will not accept applications outside of Grants.gov without an approved waiver.

We will email you if we approve your waiver. This notification will include submission instructions. If approved, we must receive your application by 5:00 p.m. ET on the application deadline.

Other Submissions

Intergovernmental Review

This NOFO is not subject to executive order 12372, Intergovernmental Review of Federal Programs. No action is needed.

Mandatory Disclosure

You must submit any information related to violations of Federal criminal law involving fraud, bribery, or gratuity violations potentially affecting the Federal award. See Mandatory Disclosures, 45 CFR 75.113 (https://www.ecfr.gov/current/title-45/subtitle-A/subchapter-A/part-75/subpart-B/section-75.113).

Send written disclosures to IHS at DGM@ihs.gov and to the Office of Inspector General at grantdisclosures@oig.hhs.gov. Include “Mandatory Grant Disclosures” in subject line.

Application Checklist

Make sure you have everything you need to apply:

Component | How to upload | Page limit
☐ Project Abstract | Use the Project Abstract Summary form | 1 page.
☐ Project Narrative | Use the project Narrative Attachment form | 25 pages.
☐ Budget Narrative | Use the Budget Narrative Attachment form | 5 pages.
Attachments | Insert each in a single Other Attachments form |
☐ Tribal resolution |  | None.
☐ Work plan chart |  | 1 page.
☐ Proof of nonprofit status |  | None.
☐ Indirect cost agreement |  | None.
☐ Resumes and position descriptions |  | None.
☐ Letter of support |  | None.
☐ Audit documentation |  | None.
Other Required Forms (3 total) | Upload using each required form |
☐ Application for Federal Assistance (SF-424) |  | None.
☐ Budget Information for Non-Construction Programs (SF-424A) |  | None.
☐ Grants.gov Lobbying Form |  | None.
☐ Disclosure of Lobbying Activities (SF-LLL) |  | None.

VIII. Step 6: Learn What Happens After Award

Post-Award Requirements and Administration

Administrative and National Policy Requirements

There are important rules you need to know if you get an award. You must follow:

• All terms and conditions in the Notice of Award.

• The regulations listed in 45 CFR part 75, Uniform Administrative Requirements, Cost Principles, and Audit Requirements for HHS Awards (https://www.ecfr.gov/current/title-45/subtitle-A/subchapter-A/part-75).

• The HHS Grants Policy Statement (GPS) (https://www.hhs.gov/sites/default/files/grants/grants/policies-regulations/hhsgps107.pdf). This document has terms and conditions tied to your award. If there are any exceptions to the GPS, they will be listed in your Notice of Award.

• All Federal statutes and regulations relevant to Federal financial assistance, including those highlighted in the HHS Administrative and National Policy Requirements (https://www.hhs.gov/sites/default/files/hhs-administrative-national-policy-requirements.pdf).

Reporting

If you are successful, you will have to submit financial and performance reports and possibly reports on specific types of activities. Your NoA will outline the specific requirements and deadlines. To learn more about reporting, see:

• Performance Progress Reports

• Progress Report Requirements

• Financial Reporting

If your award includes funds for a conference, you must submit a report for all conferences.

If you do not submit your reports on time, we could:

• Suspend or terminate your award

• Withhold payments

• Move you to a reimbursement payment method

• Withhold future awards

• Take other enforcement actions

• Impose special award conditions if the situation continues

Non-Discrimination and Assurance

If you receive an award, you must follow all applicable nondiscrimination laws. You agree to this when you register in SAM.gov. You must also submit an Assurance of Compliance (HHS-690) (https://www.hhs.gov/sites/default/files/form-hhs690.pdf). To learn more, see the Laws and Regulations Enforced by the HHS Office for Civil Rights (https://www.hhs.gov/civil-rights/for-providers/laws-regulations-guidance/laws/index.html).

VI. Contacts and Support

Agency Contacts

1. Program and Eligibility, Eric Pinto, Senior Program Specialist, Email: Eric.Pinto@ihs.gov, Phone: 301-443-2544.

2. Grants Management and Financial, DGM@ihs.gov.

Grants.gov

Grants.gov provides 24/7 support. You can call 1-800-518-4726 or email support@grants.gov. Hold on to your ticket number.

If problems persist, contact the Office of Grants Management at DGM@ihs.gov. Please do so at least 10 days before the application due date.

SAM.gov

If you need help, you can call 866-606-8220 or live chat with the Federal Service Desk (https://www.fsd.gov/gsafsd_sp).

GrantSolutions

For help, please contact the GrantSolutions help desk at 866-577-0771, or by email at help@grantsolutions.gov.

Reference websites

• U.S. Department of Health and Human Services (HHS) (https://www.hhs.gov/)

• Division of Grants Management | Indian Health Service (IHS) (https://www.ihs.gov/dgm/index.cfm?module=dsp_dgm_funding)

• Grants Training Tools | Division of Grants Management (ihs.gov) (https://www.ihs.gov/dgm/training1/).

• Code of Federal Regulations (CFR) (https://www.ecfr.gov/)

• United States Code (U.S.C.) (https://uscode.house.gov/)

Roselyn Tso,
Director, Indian Health Service.

[FR Doc. 2024-05103 Filed 3-8-24; 8:45 am]

BILLING CODE 4166-14-P